NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities (NEH) will hold thirty-seven meetings, by video conference, of the Humanities Panel, a Federal advisory committee, during August 2024, and five meetings in September 2024. The purpose of the meetings is for panel review, discussion, evaluation, and recommendation of applications for financial assistance under the National Foundation on the Arts and the Humanities Act of 1965.

DATES: See SUPPLEMENTARY INFORMATION for meeting dates. The meetings will open at 8:30 a.m. and will adjourn by 5 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. 10), notice is hereby given of the following meetings:

1. Date: August 1, 2024.

This video meeting will discuss applications on the topics of European Studies, Political Science, and Jurisprudence, for the Fellowships grant program, submitted to the Division of Research Programs.

2. Date: August 1, 2024.

This video meeting will discuss applications on the topics of Asian Studies and Film Studies, for the Fellowships grant program, submitted to the Division of Research Programs.

3. Date: August 1, 2024.

This video meeting will discuss applications on the topics of Museum Studies and Preservation, for the Preservation and Access Education and Training grant program, submitted to the Division of Preservation and Access.

4. Date: August 2, 2024.

This video meeting will discuss applications on the topics of Communication, Media, and American History and Studies, for the Fellowships grant program, submitted to the Division of Research Programs.

5. Date: August 2, 2024.

This video meeting will discuss applications on the topics of U.S. History and Environmental Humanities, for the Fellowships grant program, submitted to the Division of Research Programs.

6. Date: August 5, 2024.

This video meeting will discuss applications on the topic of Social Sciences, for the Fellowships grant program, submitted to the Division of Research Programs.

7. Date: August 5, 2024.

This video meeting will discuss applications for the Humanities Initiatives at Colleges and Universities grant program, submitted to the Division of Education Programs.

8. Date: August 5, 2024.

This video meeting will discuss applications on the topics of Libraries, Archives, and Communities, for the Preservation and Access Education and Training grant program, submitted to the Division of Preservation and Access.

9. Date: August 6, 2024.

This video meeting—the first of two on this date—will discuss applications for the Humanities Initiatives at Community Colleges grant program, submitted to the Division of Education Programs.

10. Date: August 6, 2024.

This video meeting—the second of two on this date—will discuss applications for the Humanities Initiatives at Community Colleges grant program, submitted to the Division of Education Programs.

11. Date: August 6, 2024.

This video meeting will discuss applications on the topic of Cultural Anthropology, for the Cultural and Community Resilience grant program, submitted to the Division of Preservation and Access.

12. Date: August 7, 2024.

This video meeting will discuss applications for the Humanities Initiatives at Colleges and Universities grant program, submitted to the Division of Education Programs.

13. Date: August 7, 2024.

This video meeting will discuss applications on the topic of Climate, for the Cultural and Community Resilience grant program, submitted to the Division of Preservation and Access.

14. Date: August 7, 2024.

This video meeting will discuss applications for the Humanities Initiatives at Hispanic-Serving Institutions grant program, submitted to the Division of Education Programs.

15. Date: August 8, 2024.

This video meeting will discuss applications for the Humanities Initiatives at Community Colleges, Tribal Colleges, and Universities grant programs, submitted to the Division of Education Programs.

16. Date: August 8, 2024.

This video meeting will discuss applications on the topics of Climate, for the Cultural and Community Resilience grant program, submitted to the Division of Preservation and Access.

17. Date: August 8, 2024.

This video meeting will discuss applications for the Humanities Initiatives at Colleges and Universities grant program, submitted to the Division of Education Programs.

18. Date: August 9, 2024.

This video meeting will discuss applications on the topics of Digital Preservation and AV, for the Preservation and Access Education and Training grant program, submitted to the Division of Preservation and Access.

19. Date: August 12, 2024.

This video meeting will discuss applications for the Humanities Initiatives at Historically Black Colleges and Universities grant program, submitted to the Division of Education Programs.

20. Date: August 13, 2024.

This video meeting will discuss applications on the topics of Digital and Media Preservation, for the Research and Development grant program, submitted to the Division of Preservation and Access.

21. Date: August 13, 2024.

This video meeting will discuss applications for the Humanities Initiatives at Colleges and Universities grant program, submitted to the Division of Education Programs.

22. Date: August 14, 2024.

This video meeting will discuss applications for the Humanities Initiatives at Colleges and Universities grant program, submitted to the Division of Education Programs.

23. Date: August 14, 2024.

This video meeting will discuss applications for the Humanities Initiatives at Hispanic-Serving Institutions grant program, submitted to the Division of Education Programs.

24. Date: August 15, 2024.

This video meeting will discuss applications for the Humanities Initiatives at Hispanic-Serving Institutions grant program, submitted to the Division of Education Programs.

25. Date: August 15, 2024.

This video meeting will discuss applications on the topics of Community and Ethnographic Preservation, for the Research and Development grant program, submitted to the Division of Preservation and Access.

26. Date: August 15, 2024.

This video meeting will discuss applications for the Humanities Initiatives at Colleges and Universities grant program, submitted to the Division of Education Programs.

27. Date: August 16, 2024.

This video meeting will discuss applications for the Humanities Initiatives at Colleges and Universities grant program, submitted to the Division of Education Programs.

28. Date: August 16, 2024.

This video meeting will discuss applications for the Humanities Initiatives at Hispanic-Serving Institutions grant program, submitted to the Division of Education Programs.

29. Date: August 20, 2024.

This video meeting will discuss applications on the topics of Preventative Care and Conservation Science, for the Research and Development grant program, submitted to the Division of Preservation and Access.

30. Date: August 21, 2024.

This video meeting will discuss applications on the topics of Collections and Access, for the Digital Humanities Advancement Grants program, submitted to the Office of Digital Humanities.

31. Date: August 22, 2024.

This video meeting will discuss applications on the topics of Arts and Public Humanities, for the Digital Humanities Advancement Grants program, submitted to the Office of Digital Humanities.

32. Date: August 27, 2024.

This video meeting will discuss applications on the topics of World History and Culture, for the Digital Projects for the Public: Production Grants program, submitted to the Division of Public Programs.

33. Date: August 27, 2024.

This video meeting will discuss applications on the topic of Spatial Humanities, for the Digital Humanities Advancement Grants program, submitted to the Office of Digital Humanities.

34. Date: August 28, 2024.

This video meeting will discuss applications on the topics of Collections and Access, for the Digital Humanities Advancement Grants program, submitted to the Office of Digital Humanities.

35. Date: August 28, 2024.

This video meeting will discuss applications on the topics of Arts and Culture, for the Digital Projects for the Public: Production Grants program, submitted to the Division of Public Programs.

36. Date: August 29, 2024.

This video meeting will discuss applications on the topic of U.S. History, for the Digital Projects for the Public: Production Grants program, submitted to the Division of Public Programs.

37. Date: August 29, 2024.

This video meeting will discuss applications on the topic of Scholarly Communication, for the Digital Humanities Advancement Grants program, submitted to the Office of Digital Humanities.

38. Date: September 4, 2024.

This video meeting will discuss applications on the topics of Computational Analysis and Languages, for the Digital Humanities Advancement Grants program, submitted to the Office of Digital Humanities.

39. Date: September 4, 2024.

This video meeting will discuss applications on the topic of U.S. History, for the Digital Projects for the Public: Production Grants program, submitted to the Division of Public Programs.

40. Date: September 5, 2024.

This video meeting will discuss applications on the topic of Indigenous Studies, for the Digital Projects for the Public: Production Grants program, submitted to the Division of Public Programs.

41. Date: September 6, 2024.

This video meeting will discuss applications on the topic of U.S. History, for the Digital Projects for the Public: Production Grants program, submitted to the Division of Public Programs.

42. Date: September 10, 2024.

This video meeting will discuss applications for the Graduate Education in the Humanities: A National Convening grant program, submitted to the Office of Challenge Programs. Because these meetings will include review of personal and/or proprietary financial and commercial information given in confidence to the agency by grant applicants, the meetings will be closed to the public pursuant to sections 552b(c)(4) and 552b(c)(6) of title 5, U.S.C., as amended. I have made this determination pursuant to the authority granted me by the Chair's Delegation of Authority to Close Advisory Committee Meetings dated April 15, 2016.

Dated: August 7, 2024.
Jessica Graves,
Paralegal Specialist, National Endowment for the Humanities.

[FR Doc. 2024-17900 Filed 8-9-24; 8:45 am]

BILLING CODE 7536-01-P